ENVIRONMENTAL PROTECTION AGENCY

[FRL-9905-82-OA]

Request for Nominations of Experts To Augment the Science Advisory Board Chemical Assessment Advisory Committee for the Review of the EPA's Draft Toxicological Review of Benzo[a]pyrene

AGENCY: Environmental Protection Agency (EPA).

ACTION: Notice.

SUMMARY: The EPA Science Advisory Board (SAB) Staff Office requests public nominations of scientific experts to augment the SAB Chemical Assessment Advisory Committee (CAAC) for the review of the EPA's draft Toxicological Review of Benzo[a]pyrene in Support of Summary Information on the Integrated Risk Information System (IRIS).

DATES: Nominations should be submitted by February 18, 2014 per the instructions below.

FOR FURTHER INFORMATION CONTACT: Any member of the public wishing further information regarding this Notice and Request for Nominations may contact the Designated Federal Officer for the review, as identified below. Nominators unable to submit nominations electronically as described below may contact the Designated Federal Officer for assistance. General information concerning the EPA SAB can be found at the EPA SAB Web site at http://www.epa.gov/sab.

SUPPLEMENTARY INFORMATION:

Background: The SAB (42 U.S.C. 4365) is a chartered Federal Advisory Committee that provides independent scientific and technical peer review, advice and recommendations to the EPA Administrator on the technical basis for EPA actions. As a Federal Advisory Committee, the SAB conducts business in accordance with the Federal Advisory Committee Act (FACA) (5 U.S.C. App. 2) and related regulations. The SAB Chemical Assessment Advisory Committee (CAAC) is a subcommittee of the SAB that provides advice through the chartered SAB regarding assessments of environmental chemicals available on EPA's Integrated Risk Information System (IRIS). The SAB and the CAAC, augmented with additional experts, will comply with the provisions of FACA and all appropriate SAB Staff Office procedural policies.

The National Center for Environmental Assessment (NCEA) in the EPA's Office of Research and Development (ORD) develops toxicological reviews/assessments for various chemicals for IRIS. NCEA has developed a draft IRIS assessment for benzo[a]pyrene and has asked the SAB to peer review the draft document. The SAB Staff Office is seeking experts to augment the SAB CAAC for this peer review.

Benzo[a]pyrene is a five-ring polycyclic aromatic hydrocarbon that is relatively insoluble in water and has low volatility. It is ubiquitous in the environment primarily as a result of incomplete combustion emissions. Natural sources of benzo[a]pyrene include forest fires and volcanoes, and anthropogenic sources include stoves/furnaces burning fossil fuels (especially wood and coal), motor vehicle exhaust, and various industrial combustion processes. Major sources of occupational exposure involve production of aluminum, coke, graphite and silicon carbide, as well as coal tar distillation. Major sources of non-occupational exposure involve tobacco products and diet (e.g., barbequed or charred meats).

NCEA's draft Toxicological Review of Benzo[a]pyrene (August 2013) is an update to a 1987 IRIS assessment for benzo[a]pyrene. The draft assessment and proposed charge questions may be found at the following URL: http://yosemite.epa.gov/sab/sabproduct.nsf/fedrgstr_activites/IRIS%20BaP?OpenDocument. The 1987 benzo[a]pyrene assessment currently posted to the IRIS database includes an oral cancer risk estimate (oral slope factor) and a cancer descriptor. For the reassessment, NCEA evaluated epidemiological data, experimental animal data, and other relevant data from studies of noncancer and cancer effects of benzo[a]pyrene. The 2013 draft assessment contains a qualitative characterization of the hazards for benzo[a]pyrene, including a cancer descriptor of the chemical's human carcinogenic potential, cancer risk estimates for oral, inhalation and dermal exposure, and noncancer toxicity values for chronic oral (reference dose) and inhalation (reference concentration) exposure. This assessment includes the IRIS Program's first dermal slope factor. The dermal analysis was included in consideration of EPA's need to estimate the potential for skin cancer from dermal exposure, especially in children exposed to contaminated soil. [Note: NCEA posted the 2013 draft assessment and draft charge questions on the IRIS Web site (http://cfpub.epa.gov/ncea/iris_drafts/recordisplay.cfm?deid=66193) on August 21, 2013, which initiated a public comment period that ended on November 21, 2013.

Additionally, on December 12-13, 2013, NCEA held a public meeting to obtain stakeholder and public feedback on the draft charge and the draft benzo[a]pyrene toxicological assessment. As a result of the comments received during the public comment period and the discussions at the December meeting, the August 2013 draft versions of these documents may be revised prior to their submission to the SAB CAAC panel for peer review.]

Technical Contact for EPA's Draft Assessment: For information concerning the EPA draft assessment, please contact Dr. Samantha Jones, National Center for Environmental Assessment, Office of Research and Development, U.S. EPA, 1200 Pennsylvania Avenue NW., Mail Code 8601P, Washington, DC 20460, phone (703) 347-8580 or via email at jones.samantha@epa.gov.

Request for Nominations: The SAB Staff Office is seeking nominations of nationally and internationally recognized scientists with demonstrated expertise and research to augment the CAAC for the peer review of the benzo[a]pyrene toxicological review. The SAB Staff Office seeks experts in one or more of the following areas, with a particular focus on benzo[a]pyrene: epidemiology with expertise in PAHs and benzo[a]pyrene; developmental toxicity and neurotoxicity; reproductive toxicity (both male and female); immunotoxicity; genotoxicity; cancer biology; dermal toxicity and carcinogenicity, including toxicokinetic considerations (e.g., dose metrics, extrapolation from animals to humans); and quantitative risk assessment, including dose-response modeling expertise. Questions regarding this review should be directed to Stephanie Sanzone, Designated Federal Officer (DFO), SAB Staff Office, by telephone/voice mail at (202) 564-2067, by fax at (202) 565-2098, or via email at sanzone.stephanie@epa.gov.

Process and Deadline for Submitting Nominations: Any interested person or organization may nominate qualified individuals in the areas of expertise described above for possible service on the augmented CAAC panel identified in this notice. Nominations should be submitted in electronic format (preferred over hard copy) following the instructions for “Nominating Experts to Advisory Panels and Ad Hoc Committees Being Formed,” provided on the SAB Web site (see the “Nomination of Experts” link on the blue navigational bar at http://www.epa.gov/sab). To receive full consideration, nominations should include all of the information requested below. EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Ms. Sanzone as noted above. Nominations should be submitted in time to arrive no later than February 18, 2014. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates for the CAAC benzo[a]pyrene review panel on the SAB Web site at http://yosemite.epa.gov/sab/sabproduct.nsf/fedrgstr_activites/IRIS%20BaP?OpenDocument. Public comments on the List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which include membership on an EPA federal advisory committee) and private interests and activities, or the appearance of a loss of impartiality, as defined by federal regulation. The form may be viewed and downloaded from the following URL address http://yosemite.epa.gov/sab/sabproduct.nsf/Web/ethics?OpenDocument.

The approved policy under which the EPA SAB Office selects members for subcommittees and review panels is described in the following document: Overview of the Panel Formation Process at the Environmental Protection Agency Science Advisory Board (EPA-SAB-EC-02-010), which is posted on the SAB Web site at http://www.epa.gov/sab/pdf/ec02010.pdf.

Dated: January 16, 2014.
Christopher Zarba,
Director, Science Advisory Board Staff Office.

[FR Doc. 2014-01586 Filed 1-27-14; 8:45 am]

BILLING CODE 6560-50-P